DEPARTMENT OF TRANSPORTATION

Maritime Administration

[Docket No. DOT-MARAD-2021-0016]

Request for Comments on the Renewal of a Previously Approved Information Collection: Request for Waiver of Service Obligation, Request for Deferment of Service Obligation, and Application for Review

AGENCY: Maritime Administration, DOT.

ACTION: Notice and request for comments.

SUMMARY: The Maritime Administration (MARAD) invites public comments on our intention to request the Office of Management and Budget (OMB) approval to renew an information collection. The information collected will be used to determine if waivers and deferments may be granted to U.S. Merchant Marine Academy (USMMA) graduates and to State Maritime Academy (SMA) graduates who participated in the Student Incentive Payment (SIP) Program. We are required to publish this notice in the Federal Register by the Paperwork Reduction Act of 1995.

DATES: Comments must be submitted on or before June 7, 2021.

ADDRESSES: You may submit comments [identified by Docket No. DOT-MARAD-2021-0016] through one of the following methods:

• Federal eRulemaking Portal: www.regulations.gov. Search using the above DOT docket number and follow the online instructions for submitting comments.

• Fax: 1-202-493-2251.

• Mail or Hand Delivery: Docket Management Facility, U.S. Department of Transportation, 1200 New Jersey Avenue SE, West Building, Room W12-140, Washington, DC 20590, between 9 a.m. and 5 p.m., Monday through Friday, except on Federal holidays.

Instructions: All submissions must include the agency name and docket number for this rulemaking.

Note: All comments received will be posted without change to www.regulations.gov including any personal information provided.

Comments are invited on: (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Electronic Access and Filing

A copy of the notice may be viewed online at www.regulations.gov using the docket number listed above. A copy of this notice will be placed in the docket. Electronic retrieval help and guidelines are available on the website. It is available 24 hours each day, 365 days each year. An electronic copy of this document may also be downloaded from the Office of the Federal Register's website at www.FederalRegister.gov and the Government Publishing Office's website at www.GovInfo.gov.

FOR FURTHER INFORMATION CONTACT: Danielle Bennett (202) 366-5469, Office of Maritime Workforce Development, U.S. Department of Transportation, 1200 New Jersey Avenue SE, Washington, DC 20590.

SUPPLEMENTARY INFORMATION: Title: Request for Waiver of Service Obligation, Request for Deferment of Service Obligation, Application for Review.

OMB Control Number: 2133-0510.

Type of Request: Renewal of a Previously Approved Information Collection.

Abstract: The Information collection is essential for determining if a student or graduate of the USMMA or a SMA that participated in the Student Incentive Payment (SIP) Program has a valid circumstance preventing them from fulfilling the requirements of the service obligation contract signed at the time of their enrollment in USMMA or the SIP program. It also permits the Maritime Administration (MARAD) to determine if a graduate, who wishes to defer their service obligation to attend graduate school, is eligible to receive a deferment. Student or graduates who submit a waiver or deferral request have an opportunity to appeal MARAD's decision. This collection is essential for determining if the original decision for a waiver or deferral request should be overturned. Their service obligation is required by law.

Respondents: U.S. Merchant Marine Academy students and graduates, and subsidized students and graduates.

Affected Public: Individuals or Households.

Estimated Number of Respondents: 11.

Estimated Number of Responses: 11.

Estimated Hours per Response: 30 minutes.

Annual Estimated Total Annual Burden Hours: 5.30.

Frequency of Response: Annually.

Authority: The Paperwork Reduction Act of 1995; 44 U.S.C. Chapter 35, as amended; and 49 CFR 1.93.

* * * * *

By Order of the Acting Maritime Administrator.
T. Mitchell Hudson, Jr.,
Secretary, Maritime Administration.

[FR Doc. 2021-07143 Filed 4-6-21; 8:45 am]

BILLING CODE 4910-81-P